DEPARTMENT OF ENERGY

Federal Energy Regulatory Commission

Combined Notice of Filings

Take notice that the Commission has received the following Natural Gas Pipeline Rate and Refund Report filings:

Filings Instituting Proceedings

Docket Number: PR18-48-000.

Applicants: Worsham-Steed Gas Storage, LLC.

Description: Tariff filing per 284.123(b),(e)/: Notice of Non-Material Change in Ownership (Docket No. PR17-66-000 Compliance).

Filed Date: 5/8/18.

Accession Number: 201805085121.

Comments/Protests Due: 5 p.m. ET 5/29/18.

Docket Number: PR18-49-000.

Applicants: Hill-Lake Gas Storage, LLC.

Description: Tariff filing per 284.123(b),(e)/: Notice of Non-Material Change in Ownership (Docket No. PR02-8-000 Compliance).

Filed Date: 5/8/18.

Accession Number: 201805085136.

Comments/Protests Due: 5 p.m. ET 5/29/18.

Docket Numbers: RP15-1022-000.

Applicants: Alliance Pipeline L.P.

Description: Report Filing: Settlement Recourse Rate Refund Report.

Filed Date: 5/10/18.

Accession Number: 20180510-5077.

Comments Due: 5 p.m. ET 5/22/18.

Docket Numbers: RP18-811-000.

Applicants: Columbia Gas Transmission, LLC.

Description: § 4(d) Rate Filing: Columbia LXP Amendments to be effective 1/1/2018.

Filed Date: 5/10/18.

Accession Number: 20180510-5102.

Comments Due: 5 p.m. ET 5/22/18.

Docket Numbers: RP18-812-000.

Applicants: Columbia Gulf Transmission, LLC.

Description: § 4(d) Rate Filing: Columbia Gulf RXP Amendment and Agreement to be effective 1/1/2018.

Filed Date: 5/10/18.

Accession Number: 20180510-5103.

Comments Due: 5 p.m. ET 5/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2018.
Nathaniel J. Davis, Sr.,
Deputy Secretary.

[FR Doc. 2018-10613 Filed 5-17-18; 8:45 am]

BILLING CODE 6717-01-P